DEPARTMENT OF ENERGY

Notice of Availability of Preliminary List of Potential National Interest Electric Transmission Corridors; Request for Comments

Correction

In notice document, 2024-10251, appearing on pages 40477 through 40479 in the issue of Friday, May 10, 2024, make the following correction:

On page 40478, in the third column, on the twenty third line from the bottom, change the URL from “https://www.energy.gov/sites/default/files/2023-12/2023-12-15%20GDO%20NIETC%20Final%20Guidance%20Document.Vpdf” to “https://www.energy.gov/sites/default/files/2023-12/2023-12-15%20GDO%20NIETC%20Final%20Guidance%20Document.pdf.”

[FR Doc. C1-2024-10251 Filed 6-4-24; 8:45 am]

BILLING CODE 0099-10-P